DEPARTMENT OF THE TREASURY

Federal Law Enforcement Training Center (FLETC)

Meeting Cancellation

AGENCY: Federal Law Enforcement Training Center, Department of the Treasury.

ACTION: Cancellation of notice.

SUMMARY: This cancels previously announced Federal Register Notice published on February 4, 2003 (Volume 68, Number 23) [Notices][Page 5701]. The Advisory Committee to the National Center for State and Local Law Enforcement Training (National Center) at the Federal Law Enforcement Training Center has cancelled its meeting previously scheduled for February 26, 2003.

ADDRESSES: Federal Law Enforcement Training Center, Building 67, Glynco, GA 31524.

FOR FURTHER INFORMATION CONTACT: Bruce P. Brown, Director, National Center for State and Local Law Enforcement Training, Federal Law Enforcement Training Center, Glynco, GA 31524, 912-267-2322.

Dated: February 19, 2003.
Bruce P. Brown,
Director, National Center for State and Local Law Enforcement Training.

[FR Doc. 03-4481 Filed 2-21-03; 11:22 am]

BILLING CODE 4810-32-P